NATIONAL SCIENCE FOUNDATION

Proposal Review Panel for Physics; Notice of Meeting

In accordance with the Federal Advisory Committee Act (Pub. L. 92-463, as amended), the National Science Foundation announces the following meeting:

Name and Committee Code: LIGO Operations Review for the Division of Physics (1208)—LIGO Livingston Observatory.

Date and Time:

April 30, 2019; 8:30 a.m.-5:30 p.m.

May 1, 2019; 9:00 a.m.-5:30 p.m.

Place: LIGO Livingston Observatory, 19100 Ligo Ln., Livingston, LA 70754.

Type of Meeting: Part-Open.

Contact Person: Dr. Mark Coles, Program Director, Division of Physics, National Science Foundation, 2415 Eisenhower Avenue, Room W 9216, Alexandria, VA 22314; Telephone: (703) 292-4432.

Purpose of Meeting: Site visit to provide an evaluation of the progress of the projects at the host site for the Division of Physics at the National Science Foundation.

Agenda

April 30, 2019
08:30 a.m.-09:15 a.m | Executive Session | CLOSED
09:15 a.m.-09:45 a.m | Welcome | OPEN
09:45 a.m.-10:30 a.m | LIGO Laboratory Management | OPEN
10:30 a.m.-10:40 a.m | Break
10:40 a.m.-12:00 p.m | LIGO Detector Commissioning and Upgrades | OPEN
12:00 p.m.-01:00 p.m | Lunch
01:00 p.m.-01:45 p.m | LIGO Scientific Progr a.m. | OPEN
01:45 p.m.-02:30 p.m | LIGO Computing | OPEN
02:30 p.m.-03:15 p.m | LIGO Laboratory LIGO-India Progr a.m. | OPEN
03:15 p.m.-03:30 p.m | Break
03:30 p.m.-04:15 p.m | LIGO Laboratory Education and Public Outreach | OPEN
04:15 p.m.-05:30 p.m | Panel Executive Session | CLOSED
May 1, 2019
09:00 a.m.-11:00 a.m | LIGO Laboratory Education and Public Outreach | OPEN
11:00 a.m.-02:00 p.m | American Physical Society Ceremony | OPEN
02:00 p.m.-04:00 p.m | LIGO Gravitational-wave Science | OPEN
| LIGO Laboratory Management/Budget I
04:00 p.m.-05:30 p.m | Executive Session | CLOSED

Reason for Closing: The work being reviewed during closed portions of the site visit include information of a proprietary or confidential nature, including technical information; financial data, such as salaries and personal information concerning individuals associated with the project. These matters are exempt under 5 U.S.C. 552b(c), (4) and (6) of the Government in the Sunshine Act.

Dated: April 1, 2019.
Crystal Robinson,
Committee Management Officer.

[FR Doc. 2019-06560 Filed 4-3-19; 8:45 am]

BILLING CODE 7555-01-P